DEPARTMENT OF THE INTERIOR

National Park Service

[NPS-AKR-GAAR-15389]; [PPAKAKROZ7] [PPMPSPD1Y.YM0000]

Notice of Application for a Right-of-Way Across Gates of the Arctic National Preserve

AGENCY: National Park Service, Interior.

ACTION: Notice of application.

SUMMARY: An application for a right-of-way across the Western (Kobuk River) unit of Gates of the Arctic National Preserve has been filed by the Alaska Industrial Development and Export Authority with the National Park Service, pursuant to and consistent with section 1104(b) and (c) of the Alaska National Interest Lands Conservation Act (Pub. L. 96-487). In accordance with section 201(4)(c) of the Alaska National Interest Lands Conservation Act, the National Park Service is giving notice and providing for a thirty-day period for other parties to apply for access across the preserve.

Potential applicants for such access need to contact the National Park Service (see the contact information provided below) to obtain the requirements for filing an application for access.

DATES: Applications must be received by or postmarked by January 13, 2016.

ADDRESSES: Superintendent, Gates of the Arctic National Park and Preserve, 4175 Geist Road, Fairbanks, Alaska 99709.

FOR FURTHER INFORMATION CONTACT: Greg Dudgeon, Superintendent, Gates of the Arctic National Park and Preserve, 4175 Geist Road, Fairbanks, Alaska 99709. Telephone: 907-457-5752. Email: yuga_ambler_road@nps.gov.

Dated: November 30, 2015.
Herbert C. Frost,
Regional Director, Alaska Region.

[FR Doc. 2015-31422 Filed 12-11-15; 8:45 am]

BILLING CODE 4312-EF-P